DEPARTMENT OF THE INTERIOR

Bureau of Land Management

[LLCAD08000.18XL1109AF. L12200000.EA0000.LXSSB0280000]

Notice of Temporary Closure on Public Lands for the Annual King of the Hammers Race, San Bernardino County, CA

AGENCY: Bureau of Land Management, Interior.

ACTION: Notice of temporary closure.

SUMMARY: As authorized under the provisions of the Federal Land Policy and Management Act of 1976, as amended, the Bureau of Land Management (BLM) is giving notice that certain public lands located near Johnson Valley, California, within the Johnson Valley Off-Highway Vehicle Recreation Area, will be temporarily closed to all public use to enhance public safety during Hammerking Productions' annual King of the Hammers desert race authorized under a Special Recreation Permit (SRP). This action is in effect for King of the Hammers, which takes place annually, during a 9-day period.

DATES: This Notice is effective from February 2, 2018, through February 10, 2018. The Hammerking Productions SRP for this event is valid until February 22, 2022.

ADDRESSES: The BLM will post the temporary closure notice and a map of the temporary closure area on the BLM website at: https://www.blm.gov/california; and at the following BLM offices: California Desert District Office, 22835 Calle San Juan De Los Lagos, Moreno Valley, CA 92553; and Barstow Field Office, 2601 Barstow Road, Barstow, CA 92311. Notice of the 9-day temporary closure period for subsequent races will be published in annual news releases and posted on the BLM website at least 30-days in advance of the event.

FOR FURTHER INFORMATION CONTACT: Beth Ransel, District Manager, California Desert District, telephone: 951-697-5200, email: bransel@blm.gov; or Katrina Symons, Barstow Field Manager, telephone: 760-252-6004, email: ksymons@blm.gov. Persons who use a telecommunications device for the deaf (TDD) may call the Federal Relay Service at 1-800-877-8339 to contact the above individuals during normal business hours. The Service is available 24 hours a day, 7 days a week, to leave a message or question with the above individuals. You will receive a reply during normal hours.

SUPPLEMENTARY INFORMATION: The dates for King of the Hammers, the dates of the temporary closure, and a map of the closure area will be posted at the California Desert District Office, the Barstow Field Office, and on the BLM website at the addresses provided above every year at least 30 days prior to the event. The dates are also available upon request.

This temporary closure applies to all public use, including pedestrian use and vehicles. The BLM will also post the temporary closure notice and map of the temporary closure area at the main entry points into the Johnson Valley Off-Highway Vehicle Recreation Area. The annual temporary closure will comply with the management plan for the area, ensuring that when the annual temporary closure period includes a Saturday or Sunday, a minimum of three staging areas within the Johnson Valley Off-Highway Vehicle Recreation Area will remain open to the public on those weekend days.

Exclusive Use: The area will be for exclusive use of King of the Hammers participants, registered spectators for the King of the Hammers, and other authorized users with an authorized SRP valid for activities within the temporary closure area. For the temporary closure area, anyone without a SRP authorizing use within the temporary closure area during the temporary closure period is prohibited from using the area.

Exceptions: Temporary closure restrictions do not apply to medical and rescue personnel in the performance of their official duties; official United States military and Federal, State, and local law enforcement; Federal, State and local officers and employees in the performance of their official duties; King of the Hammers event officials and race participants; vendors with a valid BLM SRP; and registered event spectators.

Enforcement: Any person who violates the temporary closure order may be tried before a United States Magistrate and fined in accordance with 18 U.S.C. 3571, imprisoned no more than 12 months under 43 U.S.C. 1733(a) and 43 CFR 8360.0-7, or both. In accordance with 43 CFR 8365.1-7, State or local officials may also impose penalties for violations of California law.

Authority: 43 CFR 8360.0-7 and 8364.1

Beth Ransel,
California Desert District Manager.

[FR Doc. 2017-28393 Filed 1-2-18; 8:45 am]

BILLING CODE 4310-40-P